SMALL BUSINESS ADMINISTRATION

[Declaration of Economic Injury Disaster #9X06]

State of Oregon

Deschutes and Jefferson Counties and the contiguous counties of Crook, Harney, Klamath, Lake, Lane, Linn, Marion, Wasco and Wheeler in the State of Oregon constitute an economic injury disaster area as a result of a wildfire known as the B & B Complex wildfire that began on August 19, 2003 and continues to burn. The wildfire caused the closure of Highway 20/126 for approximately two weeks and has caused several businesses to suffer substantial economic losses. Eligible small businesses and small agricultural cooperatives without credit available elsewhere may file applications for economic injury assistance for this disaster until the close of business on June 28, 2004 at the address listed below or other locally announced locations: U.S. Small Business Administration, Disaster Area 4 Office, P.O. Box 13795, Sacramento, CA 95853-4795.

The interest rate for eligible small businesses and small agricultural cooperatives is 3.100 percent.

The number assigned for economic injury for this disaster is 9X0600.

(Catalog of Federal Domestic Assistance Program No. 59002.)

Dated: September 26, 2003.
Hector V. Barreto,
Administrator.

[FR Doc. 03-25031 Filed 10-1-03; 8:45 am]

BILLING CODE 8025-01-P